ENVIRONMENTAL PROTECTION AGENCY

[EPA-HQ-OMS-2023-0605; FRL-11607-01-OMS]

Agency Information Collection Activities; Proposed Information Collection Request; Comment Request; Generic Clearance for the Collection of Qualitative Feedback on Agency Service Delivery (Renewal)

SUMMARY: The Environmental Protection Agency (EPA) is planning to submit an information collection request (ICR), Generic Clearance for the Collection of Qualitative Feedback on Agency Service Delivery (EPA ICR Number 2434.204, OMB Control Number 2030-0051) to the Office of Management and Budget (OMB) for review and approval in accordance with the Paperwork Reduction Act. Before doing so, EPA is soliciting public comments on specific aspects of the proposed information collection as described below. This is a proposed extension of the ICR, which is currently approved through May 31, 2024. This notice allows for 60 days for public comments.

DATES: Comments must be submitted on or before March 26, 2024.

ADDRESSES: Submit your comments, referencing Docket ID Number EPA-HQ-OMS-2023-0605, to EPA online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Danny McGrath, Information Engagement Division (IED), Office of Information Management (OIM), 2821T, Environmental Protection Agency, 1200 Pennsylvania Ave. NW, Washington, DC 20460; telephone number: (202) 564-8434; mcgrath.daniel@epa.gov.

SUPPLEMENTARY INFORMATION: This is a proposed extension of the ICR, which is currently approved through May 31, 2024. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: The information collection activity provides the Agency with an opportunity to efficiently engage its customers and stakeholders by gathering qualitative information about their interaction with Agency. Getting such feedback in a timely manner is critical if the Agency is to know how and where it should focus while seeking to improve, or expand upon, its products and services.

The Agency will submit a collection request for approval under this generic clearance only if the collections are voluntary; low burden and low-cost for both the respondents and the Federal Government; noncontroversial; targeted to respondents who have experience with the program or may have experience with the program in the near future; and abstain from collecting personally identifiable information (PII) to the greatest extent possible. Information gathered will be used internally for general service improvement and program management purposes and released publicly only in an anonymized or aggregated fashion. It will not be used in statistical analysis intended to yield results that can be generalized to the population of study nor will it be used to substantially inform influential policy decisions.

Form Numbers: None.

Respondents/affected entities: Individuals and households; businesses and organizations; State, local or Tribal government.

Respondent's obligation to respond: Voluntary.

Estimated number of respondents: 180,000 (total).

Frequency of response: Once per request.

Total estimated burden: 45,000 hours (per year); [burden is defined at 5 CFR 1320.03(b)].

Total estimated cost: There are no annualized capital or operation & maintenance costs.

Changes in the Estimates: EPA is not anticipating a significant change in burden in this ICR compared with the ICR currently approved by OMB.

Courtney Kerwin,
Director, Regulatory Support Division.

[FR Doc. 2024-01521 Filed 1-25-24; 8:45 am]

BILLING CODE 6560-50-P